OFFICE OF PERSONNEL MANAGEMENT

5 CFR Part 532

RIN 3206-AM50

Prevailing Rate Systems; Redefinition of the Austin, TX and Waco, TX, Appropriated Fund Federal Wage System Wage Areas

AGENCY: U.S. Office of Personnel Management.

ACTION: Proposed rule with request for comments.

SUMMARY: The U.S. Office of Personnel Management is issuing a proposed rule that would redefine the geographic boundaries of the Austin, TX, and Waco, TX, appropriated fund Federal Wage System (FWS) wage areas. The proposed rule would redefine Burleson and Lampasas Counties, TX, from the Austin wage area to the Waco wage area. These changes are based on recent consensus recommendations of the Federal Prevailing Rate Advisory Committee to best match the counties proposed for redefinition to a nearby FWS survey area. No other changes are proposed for the Austin and Waco FWS wage areas.

DATES: We must receive comments on or before December 14, 2011.

ADDRESSES: Send or deliver comments to Jerome D. Mikowicz, Deputy Associate Director for Pay and Leave, Employee Services, U.S. Office of Personnel Management, Room 7H31, 1900 E Street NW., Washington, DC 20415-8200; email pay-leave-policy@opm.gov; or Fax: (202) 606-4264.

FOR FURTHER INFORMATION CONTACT: Madeline Gonzalez, (202) 606-2838; email pay-leave-policy@opm.gov; or FAX: (202) 606-4264.

SUPPLEMENTARY INFORMATION: The U.S. Office of Personnel Management (OPM) is issuing a proposed rule that would redefine the geographic boundaries of the Austin, TX, and Waco, TX, appropriated fund Federal Wage System (FWS) wage areas. This proposed rule would redefine Burleson and Lampasas Counties, TX, from the Austin wage area to the Waco wage area.

OPM considers the following regulatory criteria under 5 CFR 532.211 when defining FWS wage area boundaries:

(i) Distance, transportation facilities, and geographic features;

(ii) Commuting patterns; and

(iii) Similarities in overall population, employment, and the kinds and sizes of private industrial establishments.

In addition, OPM regulations at 5 CFR 532.211 do not permit splitting Metropolitan Statistical Areas (MSAs) for the purpose of defining a wage area, except in very unusual circumstances (e.g., organizational relationships among closely located Federal activities).

OPM recently completed reviews of the definitions of the College Station-Bryan, TX and Killeen-Temple-Fort Hood, TX MSAs and, based on analyses of the regulatory criteria for defining wage areas, is proposing the changes described below. The Federal Prevailing Rate Advisory Committee (FPRAC), the national labor-management committee responsible for advising OPM on matters concerning the pay of FWS employees, recommended these changes by consensus. These changes would be effective on the first day of the first applicable pay period beginning on or after 30 days following publication of the final regulations. FPRAC recommended no other changes in the geographic definitions of the Austin and Waco wage areas.

College Station-Bryan, TX Metropolitan Statistical Area

Brazos, Burleson, and Robertson Counties, TX, comprise the College Station-Bryan, TX MSA. The College Station-Bryan MSA is split between the Austin, TX, and Waco, TX, wage areas. Burleson County is part of the area of application of the Austin wage area and Brazos and Robertson Counties are part of the area of application of the Waco wage area.

Based on an analysis of the regulatory criteria for Brazos County, the core county in the College Station-Bryan MSA, we recommend that the entire College Station-Bryan MSA be defined to the Waco wage area. When measuring to cities, the distance criterion favors the Waco wage area. When measuring to host installations, the distance criterion does not favor one wage area more than another. The commuting patterns criterion does not favor one wage area more than another. Brazos County resembles the Waco survey area more than the Austin survey area in terms of the overall population and employment and the kinds and sizes of private industrial establishments criteria. Based on this analysis, we believe Brazos County is appropriately defined to the Waco wage area. Since there appear to be no unusual circumstances that would permit splitting the College Station-Bryan MSA, OPM proposes to redefine Burleson County to the Waco wage area so that the entire College Station-Bryan MSA is in one wage area. The remaining county in the College Station-Bryan MSA, Robertson County, is already defined to the Waco wage area. There are currently no FWS employees working in Burleson County.

Killeen-Temple-Fort Hood, TX Metropolitan Statistical Area

Bell, Coryell, and Lampasas Counties, TX, comprise the Killeen-Temple-Fort Hood, TX MSA. The Killeen-Temple-Fort Hood MSA is split between the Austin, TX, and Waco, TX, wage areas. Lampasas County is part of the area of application of the Austin wage area and Bell and Coryell Counties are part of the area of application of the Waco wage area.

Based on an analysis of the regulatory criteria for Bell County, the core county in the Killeen-Temple-Fort Hood MSA, we recommend that the entire Killeen-Temple-Fort Hood MSA be defined to the Waco wage area. When measuring to cities from Fort Hood, the largest FWS employer in Bell County, the distance criterion does not favor one wage area more than another. Since the host installation for the Waco wage area is Fort Hood, when measuring to host installations, the distance criterion greatly favors the Waco wage area over the Austin wage area. All other criteria are indeterminate. Based on this analysis, we believe Bell County is appropriately defined to the Waco wage area. Since there appear to be no unusual circumstances that would permit splitting the Killeen-Temple-Fort Hood MSA, OPM proposes to redefine Lampasas County to the Waco wage area so that the entire Killeen-Temple-Fort Hood MSA is in one wage area. The remaining county in the Killeen-Temple-Fort Hood MSA, Coryell County, is already defined to the Waco wage area. There are currently no FWS employees working in Lampasas County.

CFR Correction

In addition, this proposed rule adds the entire Syracuse-Utica-Rome, NY, FWS wage area to Appendix C to subpart B of part 532—Appropriated Fund Wage and Survey Areas. The Syracuse-Utica-Rome wage area was inadvertently deleted when the CFR was published in January 2004. This correction does not affect the pay of any FWS employees.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

Appendix C to Subpart B of Part 532—Appropriated Fund Wage and Survey Areas

2. Appendix C to subpart B is amended for the State of New York by adding “Syracuse-Utica-Rome” and its constituent counties after “Rochester” and revising for the State of Texas the wage area listings of the Austin, TX, and Waco, TX, wage areas to read as follows:

* * * * *

NEW YORK

* * * * *

Syracuse-Utica-Rome

Survey Area

New York:

Herkimer

Madison

Oneida

Onondaga

Oswego

Area of Application. Survey area plus:

New York:

Broome

Cayuga

Chenango

Cortland

Hamilton

Otsego

Tioga

Tompkins

* * * * *

TEXAS

* * * * *

Austin

Survey Area

Texas:

Hays

Milam

Travis

Williamson

Area of Application. Survey area plus:

Texas:

Bastrop

Blanco

Burnet

Caldwell

Fayette

Lee

Llano

Mason

San Saba

* * * * *

Waco

Survey Area

Texas:

Bell

Coryell

McLennan

Area of Application. Survey area plus:

Texas:

Anderson

Bosque

Brazos

Burleson

Falls

Freestone

Hamilton

Hill

Lampasas

Leon

Limestone

Mills

Robertson

* * * * *

[FR Doc. 2011-29350 Filed 11-10-11; 8:45 am]

BILLING CODE 6325-39-P